DEPARTMENT OF TRANSPORTATION

Office of the Secretary

Notice of Applications for Certificates of Public Convenience and Necessity and Foreign Air Carrier Permits Filed Under Subpart B (Formerly Subpart Q) During the Week Ending February 21, 2015

The following Applications for Certificates of Public Convenience and Necessity and Foreign Air Carrier Permits were filed under Subpart B (formerly Subpart Q) of the Department of Transportation's Procedural Regulations (see 14 CFR 302. 201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2015-0033.

Date Filed: February 19, 2015.

Due Date for Answers, Conforming Applications, or Motion To Modify Scope: March 12, 2015.

Description

Joint application of Southern Air Inc. (“Southern”) and Florida West International Airways, Inc. (“Florida West”) requesting approval of the de facto transfer of all international authority held by Florida West to Southern.

Docket Number: DOT-OST-2015-0037.

Date Filed: February 20, 2015.

Due Date for Answers, Conforming Applications, or Motion To Modify Scope

March 13, 2015.

Description

Application of Liberty Helicopters Inc. requesting authority to engage in scheduled operations as a commuter air carrier and proposes to operate flights between various New York City heliports, and the following destinations: NYC Metro Airports, Mohegan Sun Casino, Montauk, Southampton, and East Hampton (“Proposed Service”).

Barbara J. Hairston,
Supervisory Dockets Officer, Docket Operations, Federal Register Liaison.

[FR Doc. 2015-05893 Filed 3-13-15; 8:45 am]

BILLING CODE 4910-9X-P